SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before August 13, 2025.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Shauniece.Carter@sba.gov; (202) 205-6536, or from www.reginfo.gov/public/do/PRAMain.

SUPPLEMENTARY INFORMATION: The Federal and State Technology Partnership (FAST) Program is a competitive grants program designed to strengthen the technological competitiveness of small businesses seeking funding from the Small Business Innovation Research (SBIR) and Small Business Technology Transfer (STTR) programs. FAST provides funding to organizations to execute state/regional programs that increase the number of SBIR/STTR proposals (through outreach and financial support); increase the number of SBIR/STTR awards (through technical assistance and mentoring); and better prepare SBIR/STTR awardees for commercialization success (through technical assistance and mentoring).

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0405.

Title: FAST Program Quarterly Reporting Form.

Description of Respondents: FAST award recipients, including Small Business and Technology Development Centers (SBTDCs), state and local economic development agencies, and other FAST award recipients.

SBA Form Number: None.

Estimated Number of Respondents: 50.

Estimated Annual Responses: 200.

Estimated Annual Hour Burden: 400.

Shauniece Carter,
Agency Clearance Officer.

[FR Doc. 2025-13158 Filed 7-11-25; 8:45 am]

BILLING CODE 8026-09-P